DEPARTMENT OF COMMERCE

National Oceanic and Atmospheric Administration

RIN 0648-XE75

Marine Mammals; File No. 782-1676

AGENCY: National Marine Fisheries Service (NMFS), National Oceanic and Atmospheric Administration (NOAA), Commerce.

ACTION: Notice; issuance of permit amendment.

SUMMARY: Notice is hereby given that the National Marine Mammal Laboratory, 7600 Sand Point Way N.E., Seattle, WA, 98115 has been issued an amendment to Scientific Research Permit No. 782-1676-01, for research on marine mammals.

ADDRESSES: The amendment and related documents are available for review upon written request or by appointment in the following office(s):

Permits, Conservation and Education Division, Office of Protected Resources, NMFS, 1315 East-West Highway, Room 13705, Silver Spring, MD 20910; phone (301)713-2289; fax (301)427-2521.

FOR FURTHER INFORMATION CONTACT: Tammy Adams, (301)713-2289.

SUPPLEMENTARY INFORMATION: The requested amendment has been granted under the authority of the Marine Mammal Protection Act of 1972, as amended (16 U.S.C. 1361 et seq.) and the regulations governing the taking and importing of marine mammals (50 CFR part 216).

The original permit (No. 782-1676-00), issued on December 4, 2002 (67 FR 76728) authorized research on harbor seals (Phoca vitulina) and spotted seals (P. largha) in Alaska through December 31, 2007. Research activities covered by the original permit include aerial surveys and live captures of seals. Captured seals may be tagged, and have scientific instruments attached and various tissue samples collected. The original permit was modified by “minor amendment” in May 2004. The minor amendment (No. 782-1676-01) added permission to harass seals incidental to installation and periodic maintenance of camera systems. The current amendment (No. 782-1676-02) extends the duration of the permit through December 31, 2008.

Dated: December 26, 2007.
P. Michael Payne,
Chief, Permits, Conservation and Education Division, Office of Protected Resources, National Marine Fisheries Service.

[FR Doc. E7-25582 Filed 1-2-08; 8:45 am]

BILLING CODE 3510-22-S